DEPARTMENT OF HOMELAND SECURITY

Coast Guard

33 CFR Part 117

[CGD09-07-004]

RIN 1625-AA09

Drawbridge Operation Regulation; Detroit River (Trenton Channel), Grosse Ile, MI

AGENCY: Coast Guard, DHS.

ACTION: Temporary final rule.

SUMMARY: The Coast Guard is temporarily revising the operating regulations for the Grosse Ile Toll Bridge at Mile 8.80 over the Trenton Channel during the planned seven-month duration of time that the Grosse Ile County (Free) Bridge at Mile 5.60 will be rehabilitated and not available for vehicular traffic. Grosse Ile is connected to the mainland by these two bridges only. The temporary regulations will revise the number of required bridge openings of the Grosse Ile Toll Bridge to provide less interruptions of vehicular traffic while simultaneously providing for reasonable needs of marine navigation.

DATES: This temporary rule is effective from 6 a.m. on April 18, 2007 until 6:30 p.m. on December 15, 2007.

ADDRESSES: Documents indicated in this preamble as being available in the docket are part of docket CGD09-07-004 and are available for inspection or copying at Commander (dpb), Ninth Coast Guard District, 1240 E. Ninth Street, Room 2025, Cleveland, Ohio 44199-2060 between 7 a.m.. and 3 a.m., Monday through Friday, except Federal holidays.

FOR FURTHER INFORMATION CONTACT: Mr. Kurt Carlson, U.S. Ninth Coast Guard Bridge Branch, (216) 902-6086.

SUPPLEMENTARY INFORMATION: We did not publish a notice of proposed rulemaking (NPRM) for this regulation. Under 5 U.S.C. 553(b)(B), the Coast Guard finds that good cause exists for not publishing an NPRM. This temporary rule is designed to insure that marine navigation of the Trenton Channel is maintained throughout the entire period of Grosse Ile (Free) Bridge rehabilitation (seven months). Dates for the rehabilitation project were just submitted by the bridge owner. Providing notice and comment would mean that this temporary final rule would not be issued in advance of the project beginning, which is contrary to the public interest.

Under 5 U.S.C. 553(d)(3), and for the same reason cited above, the Coast Guard finds that good cause exists for making this rule effective in less than 30 days after publication in the Federal Register.

Background and Purpose

Grosse Ile, an island in the Detroit River, is a suburb of the City of Detroit, Michigan. Most residents are employed off-island and must traverse one of the two bridges that connect the island to the mainland. “Rush hour” traffic is extremely heavy. The U.S. Coast Guard, at the request of the Manager of Grosse Ile Township and Congressional and State Representatives, is modifying the operation of the Grosse Ile Toll (swing) Bridge during the period of time that the Grosse Ile “Free” Bridge will be out of service due to scheduled rehabilitation. The modified operations will limit the number of bridge openings for the Grosse Ile Toll Bridge resulting in fewer interruptions for vehicular traffic particularly during the morning and afternoon “rush hours”. Bridge logs reveal that the Toll Bridge is required to open (on average) 150 times per month for recreational vehicles and an additional 11 times per month for commercial vessels. The current regulations for Grosse Ile Toll Bridge at Mile 8.80 over the Trenton Channel are defined in 33 CFR 117.631:

(1) Between the hours of 7 a.m. and 11 p.m., seven days a week and holidays, the draw need open only from three minutes before to three minutes after the hour and half-hour for pleasure craft; for commercial vessels, during this period of time, the draw shall open on signal as soon as possible.

(2) Between the hours of 11 p.m. and 7 a.m., the draw shall open on signal for pleasure craft and commercial vessels.

The modified regulations for the Grosse Ile Toll Bridge at Mile 8.80 over the Trenton Channel shall be:

Weekdays:

The bridge will not be required to open during “rush hours” defined as between 6 a.m. and 9 a.m. and between 3:30 p.m. and 6:30 p.m.

At all other times, the bridge is required to make one opening per hour for recreational vessels (if necessary) from three minutes before until three minutes after the hour.

Except during defined “rush hours”, the bridge must open for commercial vessels upon signal.

Weekends:

The bridge shall open once per hour for recreational vessels (if necessary) from three minutes before until three minutes after the hour.

At all times during weekends and holidays, the bridge must open for commercial vessels upon signal.

Discussion of Rule

Currently, the Grosse Ile Toll Bridge accommodates approximately 9,000 vehicle crossings per day and the Grosse Ile County (Free) Bridge accommodates 23,000 vehicle crossings per day. From April 18 until December 15, 2007, the “Free” Bridge will be rehabilitated and closed to vehicular traffic. Consequently, during this period, all vehicular traffic on and off Grosse Ile will only be able to use the Toll Bridge. Thus, estimated traffic volume will be 32,000 vehicles per day. The modified bridge regulations will provide for better accommodation of the increased volume of vehicular traffic.

Regulatory Evaluation

This rule is not a “significant regulatory action” under section 3(f) of Executive Order 12866, Regulatory Planning and Review, and does not require an assessment of potential costs and benefits under section 6(a)(3) of that Order. The Office of Management and Budget has not reviewed it under that Order. No significant impact is expected because vessels will not be prohibited from transit past the bridge. The navigable waterway, although further restricted, will not be closed.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

Marine transit along this navigable waterway of the United States will not be halted, although owners or operators of recreational and/or commercial vessels intending to transit or anchor in a portion of the Trenton Channel during the periods modified by this temporary rule may encounter short delays.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, and Department of Homeland Security Management Directive 5100.1, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e) of the Instruction, from further environmental documentation. Under figure 2-1, paragraph (32)(e), of the Instruction, an “Environmental Analysis Check List” and a “Categorical Exclusion Determination” are not required for this rule.

List of Subjects in 33 CFR Part 117

Bridges.

For the reasons discussed in the preamble, the Coast Guard temporarily amends 33 CFR part 117 as follows:

PART 117—DRAWBRIDGE OPERATION REGULATIONS

1. The authority citation for part 117 continues to read as follows:

Authority: 33 U.S.C. 499; Department of Homeland Security Delegation No. 0170.1; 33 CFR 1.05-1(g); § 117.255 also issued under the authority of Pub. L. 102-587, 106 Stat. 5039.

2. In § 117.631, from 6 a.m. on April 18 until 6:30 p.m. on December 15, 2007 temporarily suspend paragraph (a) and temporarily add paragraph (d) to read as follows:

§ 117.631 Detroit River (Trenton Channel).

* * * * *

(d) The draw of the Grosse Ile Toll Bridge (Grosse Ile Parkway), mile 8.80, at Grosse Ile, shall operate as follows:

(1) Between the hours of 6 a.m. and 9 a.m. and 3:30 p.m. and 6:30 p.m., Monday through Friday, the bridge need not open. At all other times, Monday through Friday, the draw must open for commercial vessels upon signal and only from three minutes before until three minutes after the hour for pleasure craft.

(2) On Saturday, Sunday and holidays, the bridge must open for commercial vessels upon signal and only from three minutes before until three minutes after the hour for pleasure craft.

Dated: March 16, 2007.
John E. Crowley, Jr.,
Rear Admiral, U.S. Coast Guard, Commander, Ninth Coast Guard District.

[FR Doc. E7-5717 Filed 3-27-07; 8:45 am]

BILLING CODE 4910-15-P